NATIONAL SCIENCE FOUNDATION

National Science Board Public Service Award Committee; Notice of Meeting

In accordance with the Federal Advisory Committee Act (Pub. L. 92-463, as amended), the National Science Foundation announces the following meeting:

Date and Time: Thursday, March 23, 2006, 10 a.m.-11 a.m. est (teleconference meeting)

Place: National Science Foundation, Arlington, Virginia.

Type of Meeting: Closed.

Contact Person: Mrs. Susan E. Fannoney, Executive Secretary, National Science Board Office, National Science Foundation, 4201 Wilson Blvd, Arlington, VA 22230. Telephone: 703-292-8096.

Purpose of Meeting: To provide advice and recommendations in the selection of the NSB Public Service Award recipients.

Agenda: To review and evaluate nominations as part of the selection process for awards.

Reason for Late Notice: Time and date of meeting were not established until March 14, 2006.

Reason for Closing: The nominations being reviewed include information of a personal nature where disclosure would constitute unwarranted invasions of personal privacy. These matters are exempt under 5 U.S.C. 552b(c)(6) of the Government in the Sunshine Act.

Dated: March 16, 2006.
Susanne Bolton,
Committee Management Officer.

[FR Doc. 06-2741 Filed 3-21-06; 8:45 am]

BILLING CODE 7555-01-M